DEPARTMENT OF EDUCATION

Applications for New Awards; State Tribal Education Partnership Grant Program

AGENCY: Office of Elementary and Secondary Education, Department of Education.

ACTION: Notice.

SUMMARY: The Department of Education is issuing a notice inviting applications for new awards for fiscal year (FY) 2023 for the State Tribal Education Partnership grant program (STEP), Assistance Listing Number (ALN) 84.415A. This notice relates to the approved information collection under OMB control number 1894-0006.

DATES:

Applications Available: May 2, 2023.

Deadline for Notice of Intent to Apply: June 1, 2023.

Date of Pre-Application Webinar: May 17, 2023.

Deadline for Transmittal of Applications: July 3, 2023.

Deadline for Intergovernmental Review: August 30, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Donna Bussell, U.S. Department of Education, 400 Maryland Avenue SW, Room 3W239, Washington, DC 20202-6335. Telephone: 202-987-0204. Email: donna.bussell@ed.gov.

If you are deaf, hard of hearing, or have a speech disability and wish to access telecommunications relay services, please dial 7-1-1.

SUPPLEMENTARY INFORMATION:

Full Text of Announcement

I. Funding Opportunity Description

Purpose of Program: The purposes of STEP are to: (1) promote Tribal self-determination in education; (2) improve the academic achievement of Indian children and youth; and (3) promote the coordination and collaboration of Tribal educational agencies (TEAs), as defined in this notice, with State educational agencies (SEAs) and local educational agencies (LEAs) to meet the unique education and culturally related academic needs of Indian students.

Background: STEP is authorized under section 6132 of the Elementary and Secondary Education Act, as amended (ESEA). In this competition, the Department uses the priorities from section 6132 of the ESEA and from the Department's notice of final priorities, requirements, and definitions published elsewhere in this issue of the Federal Register (NFP). The priorities support the development of partnerships among TEAs, SEAs, and LEAs to promote the creation of new TEAs or expansion of early TEAs to improve identification of Native students in public education data and enhance Tribal consultation. STEP is one of many efforts across the Federal Government to strengthen the government-to-government relationships with Tribal Nations throughout the United States. Our intent for this competition is to award STEP grants to create new TEAs; increase collaboration among TEAs, SEAs, and LEAs; and build the capacity of TEAs to directly administer education programs, including formula grant programs under the ESEA, consistent with State law and under a written agreement among the parties.

Recognizing the importance of TEAs, the Department is creating opportunities where Tribal Nations can exert Tribal sovereignty in public education and advance long-term self-determination. The Department expects that TEA-SEA-LEA coordination will facilitate positive and meaningful systemic change and strengthen the ability of TEAs to maintain greater connections with their Native children in public schools. The requirement for a draft written agreement (DWA), as defined in this notice, helps to ensure that all relevant partners needed to achieve the project goals are included from the outset.

Further, a key priority of the Department is to strengthen community engagement to advance systemic change. This competition includes a competitive preference priority to encourage projects that bridge the purpose of STEP and the Secretary's cross-agency coordination priority to advance systemic change.

For example, applicants could propose projects that include a partnership among a TEA, SEA, and LEA aimed at improving the identification of Native students who may be eligible for an ESEA title VI Indian Education formula grant. By partnering with LEAs, a TEA may disclose a list of students who are Tribally enrolled or affiliated as descendants to the LEA, enabling the LEA to compare the list with student enrollment information and notify the parents regarding Indian education program opportunities without the LEA disclosing the identity of eligible students to a TEA. One such example is a California Tribe that built cross-agency partnerships among the LEA, TEA, a local institution of higher education, and other community partners. Through the work of a joint steering committee, all partners were able to build the capacity of the new TEA so it could successfully administer educational programs for its students. In addition to improving delivery of equitable supports for Indian children and youth, we believe a collaboration focused on better identification of Indian students will build TEA capacity to collect and analyze data and help advance Tribal self-determination in public education and is consistent with input received during Tribal consultation.

A TEA must submit a DWA (as defined in this notice) with an SEA, one or more LEAs, or both the SEA and a LEA with its application for funding. For the purposes of the DWA, a school funded by the Bureau of Indian Education (BIE) is considered an LEA. The agreement must document the commitment of the TEA, SEA, and LEA to work together and must include all required elements included in the definition of DWA. Letters of support from an SEA or LEA alone will not meet this requirement and will not be accepted.

In accordance with ESEA section 6132(c)(2), all grantees who are expanding early TEAs must train and support the SEA and LEA in areas related to Tribal history, language, and culture.

In accordance with the Department's commitment to engage in regular and meaningful consultation and collaboration with Indian Tribes (as defined in this notice), the Office of Elementary and Secondary Education's (OESE) Office of Indian Education (OIE) and the White House Initiative on Advancing Educational Equity, Excellence, and Economic Opportunity for Native Americans and Strengthening Tribal Colleges and Universities conducted two virtual Tribal Consultation sessions. The first, regarding the STEP program, was held on April 26, 2021, and the second, about general input on the Department's FY 2024 budget request, was held on June 30, 2022. A summary of the consultations can be found in the notice of proposed priorities, requirements, and definitions for this program published in the Federal Register on December 28, 2022 (87 FR 79824).

Priorities: This competition includes two absolute priorities and three competitive preference priorities. In accordance with 34 CFR 75.105(b)(2)(ii), the absolute priorities and Competitive Preference Priorities 1 and 2 are from the NFP. Competitive Preference Priority 3 is from the Secretary's Final Supplemental Priorities and Definitions for Discretionary Grant Programs published in the Federal Register on December 10, 2021 (86 FR 70612) (Supplemental Priorities).

Absolute Priorities: For FY 2023 and any subsequent year in which we make awards from the list of unfunded applications from this competition, these priorities are absolute priorities. Under 34 CFR 75.105(c)(3)we consider only applications that meet Absolute Priority 1 or Absolute Priority 2.

Note: The Department intends to create two funding slates—one for applicants that meet Absolute Priority 1 and another for applicants that meet Absolute Priority 2. As a result, the Department may fund applications out of the overall rank order, provided applications of sufficient quality are submitted, but the Department is not bound to do so. Each applicant must clearly identify the specific absolute priority that the proposed project addresses in the project abstract.

These priorities are:

Absolute Priority 1—Create a TEA.

To meet this priority, an applicant must be an Indian Tribe or Tribal organization approved by an Indian Tribe that is applying to create a TEA.

Absolute Priority 2—Expand Capacity of Early TEAs.

To meet this priority, an applicant must be an early TEA.

Competitive Preference Priorities: For FY 2023 and any subsequent year in which we make awards from the list of unfunded applications from this competition, these priorities are competitive preference priorities. Under 34 CFR 75.105(c)(2)(i) we award an additional 5 points to an application that meets Competitive Preference Priority 1, an additional 3 points to an application that meets Competitive Preference Priority 2, and an additional 2 points to an application that meets Competitive Preference Priority 3. An application that meets Competitive Preference Priorities 1, 2, and 3 can be awarded a maximum of 10 priority points.

These priorities are:

Competitive Preference Priority 1—Improve Identification of Native Students for Title VI Indian Education Formula Grant Program (0 or 5 points).

To meet this priority, an applicant must propose to partner with an LEA to develop and maintain effective and culturally responsive methods to better identify, and support the identification of, Indian students who may be undercounted or under-identified as eligible for an ESEA title VI formula grant program consistent with section 6112 of the ESEA. This includes identifying Indian students who are not enrolled in a Tribal Nation but who have an affiliation with a Tribal Nation through being a descendant in the first or second degree from a Tribal Nation member as described in ESEA section 6151(3).

Note: The Family Educational Rights and Privacy Act (FERPA) does not permit an LEA to disclose personally identifiable information (PII) from students' education records to a TEA without parental consent unless the disclosure meets one of FERPA's exceptions to the general consent requirement. The most relevant exceptions to FERPA's general consent requirement that may apply if certain conditions are met are the “school official,” “studies,” and “audit/evaluation” exceptions. For further information on FERPA, contact the Department's Student Privacy Policy Office at https://studentprivacy.ed.gov/.

Competitive Preference Priority 2—New STEP Grantee (0 or 3 points).

To meet this priority, an applicant must be an early TEA or applying to create a TEA and must not have previously received a STEP award from the Department.

Competitive Preference Priority 3—Strengthening Cross-Agency Coordination and Community Engagement to Advance Systemic Change (0 or 2 points).

Projects that are designed to take a systemic evidence-based approach to improving outcomes for underserved students in one or more of the following priority areas:

(a) Coordinating efforts with Federal, State, or local agencies, or community-based organizations, that support students, to address one or more of the following:

(1) Energy.

(2) Homelessness.

(3) Transportation.

(4) Health, including physical health, mental health, and behavioral health and trauma.

(5) School diversity, including student and educator diversity.

(6) College readiness.

(7) Workforce development.

(8) Civic engagement.

(9) Technology.

(10) Public safety.

(11) Community violence prevention and intervention.

(12) Social services.

(13) Adult education and literacy.

(b) Conducting community needs and asset mapping to identify existing programs and initiatives that can be leveraged, and new programs and initiatives that need to be developed and implemented, to advance systemic change.

(c) Establishing cross-agency partnerships, or community-based partnerships with local nonprofit organizations, businesses, philanthropic organizations, or others, to meet family well-being needs.

(d) Identifying, documenting, and disseminating policies, strategies, and best practices on effective approaches to creating systemic change through cross-agency or community-based coordination and collaboration.

(e) Expanding or improving parent and family engagement.

Note: In addressing Competitive Preference Priority 3, an applicant must ensure the proposed activities function solely to promote cross-agency coordination and, consistent with the STEP statute, do not provide direct services to students.

Application Requirements: These application requirements are from section 6132(d) of the ESEA (20 U.S.C. 7452) and from the NFP. Specifically, application requirement 1 is from the NFP and application requirements 2 through 7 are from the ESEA. For FY 2023 and any subsequent year in which we make awards from the list of unfunded applications from this competition, applicants must meet the following application requirements.

Each application for funds must include the following:

(1) Draft Written Agreement with Partners.

An applicant must provide a Draft Written Agreement (DWA) with the appropriate SEA and/or LEA partner(s). For applicants creating a new TEA, a DWA is only required with an LEA. For applicants expanding capacity for an early TEA, a DWA with both an SEA and LEA is required.

(2) A statement describing the activities to be conducted, and the objectives to be achieved, under the grant.

(3) A description of the method to be used for evaluating the effectiveness of the activities for which assistance is sought and for determining whether such objectives are achieved.

(4) For TEA applicants, evidence of existing capacity as a TEA.

(5) Evidence that the eligible applicant has consulted with other education entities, if any, within the territorial jurisdiction of the applicant that will be affected by the activities to be conducted under the grant.

(6) A description of how the eligible applicant will consult with such other education entities in the operation and evaluation of the activities conducted under the grant.

(7) Evidence that there will be adequate resources provided under this program or from other sources to complete the activities for which assistance is sought.

Program Requirements: These program requirements are from section 6132(c) of the ESEA (20 U.S.C. 7452), section 7(b) of the Indian Self-Determination and Education Assistance Act (Pub. L. 93-638 or ISDEAA), and the NFP. Specifically, program requirements (a)(1) and (a)(2) are from the NFP, program requirement (a)(3) is from ISDEAA, and program requirements (b) and (c) are from the ESEA. For FY 2023 and any subsequent year in which we make awards from the list of unfunded applications from this competition, grantees must adhere to the following program requirements.

(a) For grantees under either absolute priority:

(1) Hire Project Director within 60 Days.

Grantees must hire a project director as soon as practicable, but no later than 60 days after the beginning of the performance period.

(2) Final Written Agreement with Partners.

Grantees must submit a final written agreement signed by all parties entering into the agreement within 120 days after receiving the grant award notification.

(3) ISDEAA Statutory Hiring Preference.

Awards that are primarily for the benefit of Indians are subject to the provisions of section 7(b) of the ISDEAA (Pub. L. 93-638). That section requires that, to the greatest extent feasible, a grantee—

(i) Give to Indians preferences and opportunities for training and employment in connection with the administration of the grant; and

(ii) Give to Indian organizations and to Indian-owned economic enterprises, as defined in section 3 of the Indian Financing Act of 1974 (25 U.S.C. 1452(e)), preference in the award of contracts in connection with the administration of the grant.

For purposes of this preference, an Indian is a is a member of any federally recognized Indian Tribe.

(b) For grantees under Absolute Priority 1, plan and develop a TEA.

(c) For grantees under Absolute Priority 2:

(1) Directly administer (as defined in this notice) education programs, including formula grant programs under ESEA, consistent with State law and under a written agreement between the parties. (ESEA section 6132(c)(2)(A))

(2) Build capacity to administer and coordinate such education programs, and to improve the relationship and coordination between the TEA and the SEA(s) and LEA(s) that educate students from the Tribe. (ESEA section 6132(c)(2)(B))

(3) Receive training and support from the SEA(s) and LEA(s), in areas such as data collection and analysis, grants management and monitoring, fiscal accountability, and other areas as needed. (ESEA section 6132(c)(2)(C))

(4) Train and support the SEA(s) and LEA(s) in areas related to Tribal history, language, and culture. (ESEA section 6132(c)(2)(D))

(5) Build on existing activities or resources rather than replacing other funds. (ESEA section 6132(c)(2)(E))

(6) Carry out other activities consistent with the purposes of the program. (ESEA section 6132(c)(2)(F))

Definitions: The definition of “Indian Tribe” is from section 6132 of the ESEA. The definition of “relevant outcome” is from 34 CFR 77.1. The definitions of “draft written agreement,” “directly administer,” “early TEA,” “established TEA,” “final written agreement,” “new TEA,” “TEA,” and “Tribal consultation” are from the NFP. The definition of “underserved student” is from the Supplemental Priorities.

The following definitions apply to this competition:

Directly administer means conducting, as the fiscal agent, SEA functions or LEA functions for education programs, including ESEA formula grant programs, consistent with State law and the FWA.

Draft written agreement (DWA) means an unsigned written agreement with an attached letter of support from each SEA or LEA partner indicating each has reviewed the project plan and will finalize the DWA into an FWA within 120 days of grant award notification. The DWA must include the following:

(1) The roles and responsibilities for each partner.

(2) An agreed-upon list of deliverables (Note: deliverables cannot be direct services to Indian students).

(3) Identification of at least one point of contact for each partner.

(4) A description of the resources each partner will contribute to the project (Note: resources do not need to be monetary or matching funds).

Early TEA means a TEA that meets one or two of the criteria in the definition of an established TEA.

Established TEA means a TEA that meets three or more of the following criteria:

(1) Has received a STEP grant in 2012 or subsequent years, or provides evidence of an existing prior relationship with an SEA or LEA.

(2) Has an existing Tribal education code.

(3) Has directly administered at least one education program within the past 5 years.

(4) Has administered at least one Federal, State, local, or private grant within the past 5 years.

(5) Has authorized teaching certifications.

Final written agreement (FWA) means a signed written agreement between the TEA and the SEA or LEA; the TEA and one or more LEAs; or the TEA and both an SEA and one or more LEAs, that documents the commitment and timeline of the agreeing partners to implement the terms and conditions specified in the DWA.

Indian Tribe means a federally recognized Tribe or a State-recognized Tribe.

New TEA means a Tribal entity that does not meet the definition of “early TEA” or “established TEA.”

Relevant outcome means the student outcome(s) or other outcome(s) the key project component is designed to improve, consistent with the specific goals of the program.

Tribal consultation means that—

(1) The SEA or LEA provides Tribes the opportunity for input;

(2) The SEA or LEA considers and responds to the input from Tribal leaders or their officially designated proxies regarding an education program that affects the Tribal Nation or TEA; and

(3) The partner Tribal Nation provides written confirmation that the consultation was meaningful and in good faith.

Tribal educational agency (TEA) means the agency, department, or instrumentality of an Indian Tribe that is primarily responsible for supporting Tribal students' elementary and secondary education. This term also includes an agency, department, or instrumentality of more than one Tribe if the Tribes are in close geographic proximity or have cultural connections to each other and agree through joint Tribal government resolution to have a combined TEA.

Underserved student means a student (which may include children in early learning environments, students in K-12 programs, students in postsecondary education or career and technical education, and adult learners, as appropriate) in one or more of the following subgroups:

(a) A student who is living in poverty or is served by schools with high concentrations of students living in poverty.

(b) A student who is a member of a federally recognized Indian Tribe.

(c) A disconnected youth.

(d) A technologically unconnected youth.

(e) A student experiencing homelessness or housing insecurity.

(f) A student performing significantly below grade level.

Program Authority: Section 6132 of the ESEA (20 U.S.C. 7452).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP. (e) The Supplemental Priorities.

Note: The regulations in 34 CFR part 79 apply to all applicants except federally recognized Indian Tribes.

II. Award Information

Type of Award: Discretionary grants.

Estimated Available Funds: $2.4 million.

Contingent upon the availability of funds and the quality of applications, we may make additional awards in subsequent years from the list of unfunded applications from this competition.

Estimated Range of Awards: $300,000 to $500,000.

Estimated Average Size of Awards: $400,000.

Estimated Number of Awards: 5-8.

Note: The Department is not bound by any estimates in this notice.

Project Period: For applications addressing Absolute Priority 1: Up to 36 months. For applications addressing Absolute Priority 2: Up to 60 months.

III. Eligibility Information

1. Eligible Applicants: An Indian Tribe or Tribal organization approved by an Indian Tribe, or a TEA, including a consortium of TEAs. An Indian Tribe that receives funds from the BIE under section 1140 of the Education Amendments of 1978 (25 U.S.C. 2020) is not eligible to receive funds under this program.

2. a. Cost Sharing or Matching: This program does not require cost sharing or matching.

b. Supplement-Not-Supplant: This program involves supplement-not-supplant funding requirements. Under section 6132 of the ESEA (20 U.S.C. 7452), funds under this section must be used to supplement, and not supplant, other Federal, State, and local programs that meet the needs of Tribal students.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: The following funding restrictions in ESEA section 6132(e) (20 U.S.C. 7452(e)) apply: (a) An Indian Tribe may not receive funds under STEP if such Tribe receives funds under section 1140 of the Education Amendments of 1978 (20 U.S.C. 2020); and (2) no STEP funds may be used to provide direct services. We reference additional regulations outlining funding restrictions in the Applicable Regulations section of this notice.

4. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum score for addressing each criterion and factor within each criterion is included in parentheses. The maximum score for these criteria is 100 points.

(a) Quality of Project Design (30 points). The Secretary considers the quality of the design of the proposed project. In determining the quality of the design of the proposed project, the Secretary considers the following factors:

(1) The extent to which the goals, objectives, and outcomes to be achieved by the proposed project are clearly specified and measurable. (up to 10 points)

(2) The extent to which the proposed project is designed to build capacity and yield results that will extend beyond the period of Federal financial assistance. (up to 10 points)

(3) The extent to which the proposed project will integrate with or build on similar or related efforts to improve relevant outcomes (as defined in this notice), using existing funding streams from other programs or policies supported by community, State, and Federal resources. (up to 10 points)

(b) Quality of Project Services (20 points). The Secretary considers the quality of the services to be provided by the proposed project. In determining the quality of project services of the proposed project, the Secretary considers the following factors:

(1) The quality and sufficiency of strategies for ensuring equal access and treatment for eligible project participants who are members of groups that have traditionally been underrepresented based on race, color, national origin, gender, age, or disability. (up to 5 points).

(2) The extent to which the services to be provided by the proposed project involve the collaboration of appropriate partners for maximizing the effectiveness of project services. (up to 15 points)

(c) Adequacy of Resources (20 points). The Secretary considers the adequacy of resources for the proposed project. In determining the adequacy of resources for the proposed project, the Secretary considers:

(1) The adequacy of support, including facilities, equipment, supplies, and other resources, from the applicant organization or the lead applicant organization. (up to 5 points)

(2) The extent to which the budget is adequate to support the proposed project. (up to 10 points)

(3) The potential for continued support of the project after Federal funding ends, including, as appropriate, the demonstrated commitment of appropriate entities to such support. (up to 5 points)

(d) Quality of Management Plan (20 points). The Secretary considers the quality of the management plan for the proposed project. In determining the quality of the management plan for the proposed project, the Secretary considers the extent to which the time commitments of the project director and principal investigator and other key project personnel are appropriate and adequate to meet the objectives of the proposed project.

(e) Quality of Project Personnel (10 points). The Secretary considers the quality of the personnel who will carry out the proposed project. In determining the quality of project personnel, the Secretary considers:

(1) The extent to which the applicant encourages applications for employment from persons who are members of groups that have traditionally been underrepresented based on race, color, national origin, gender, age, or disability. (up to 1 point)

(2) The qualifications, including relevant training and experience, of the project director or principal investigator. (Up to 9 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Grantees that apply under Absolute Priority 1 will report on measure (a). Grantees that apply under Absolute Priority 2 will report on measures (b), (c), and (d).

(a) The number of Tribes that create a TEA by the end of the grant period.

(b) The number of capacity-building activities offered by the TEA for the SEA or LEA (e.g., trainings, technical assistance in areas related to Tribal history, language, or culture).

(c) The number of capacity-building activities offered by the SEA or LEA for the TEA (e.g., trainings, technical assistance in developing TEA capacity to administer and coordinate education programs).

(d) The number of education programs directly administered by the grantees.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Senior Advisor, Office of the Secretary, Delegated the Authority to Perform the Functions and Duties of the Assistant Secretary, Office of Elementary and Secondary Education.

[FR Doc. 2023-09200 Filed 5-1-23; 8:45 am]

BILLING CODE 4000-01-P